NUCLEAR REGULATORY COMMISSION

[NRC-2012-0112]

Impact of Construction (Under a Combined License) of New Nuclear Power Plant Units on Operating Units at Multi-Unit Sites

AGENCY: Nuclear Regulatory Commission.

ACTION: Notice of availability.

SUMMARY: The U.S. Nuclear Regulatory Commission (NRC) staff is issuing its Final Interim Staff Guidance (ISG) COL-ISG-022 (Agencywide Documents Access and Management System (ADAMS) Accession No. ML112630044). The purpose of this ISG is to provide staff guidance for assessing combined license (COL) applicant compliance with the requirements of Title 10 of the Code of Federal Regulations, (10 CFR) 52.79(a)(31). This regulation requires applicants for a COL intending to construct and operate new nuclear power plants (NPPs) on multi-unit sites to provide an evaluation of the potential hazards to structures, systems, and components (SSCs) important to safety for the operating units resulting from construction activities.

DATES: The effective date of this COL-ISG is June 18, 2012.

ADDRESSES: Please refer to Docket ID NRC-2012-0112 when contacting the NRC about the availability of information regarding this document. You may access information related to this document, which the NRC possesses and are publicly available by any of the following methods:

• Federal Rulemaking Web site: Go to http://www.regulations.gov and search for Docket ID NRC-2012-0112. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

ADAMS accession number | Document title
ML112630037 | Interim Staff Guidance-022 on Impacts of Construction (under a Combined License) of New Nuclear Power Plants on Operating Units at Multi-Unit Sites (Package).
ML112630039 | Federal Register Notice; Office of New Reactors: Interim Staff Guidance-022 on Impacts of Construction (under a Combined License) of New Nuclear Power Plants on Operating Units at Multi-Unit Sites.
ML112630044 | Interim Staff Guidance-022 on Impacts of Construction (under a Combined License) of New Nuclear Power Plants on Operating Units at Multi-Unit Sites.
ML112630040 | Comment Response Document—Interim Staff Guidance-022 on Impacts of Construction (under a Combined License) of New Nuclear Power Plants on Operating Units at Multi-Unit Sites.

• NRC's PDR: You may examine and purchase copies of public documents at the NRC's PDR, Room O1-F21, One White Flint North, 11555 Rockville Pike, Rockville, Maryland 20852.

FOR FURTHER INFORMATION CONTACT: Ms. Amy E. Cubbage, Chief, Policy Branch, Division of Advanced Reactors and Rulemaking, Office of New Reactors, U.S. Nuclear Regulatory Commission, Washington, DC 20555-0001; telephone: 301-415-2875 or by email at amy.cubbage@nrc.gov.

SUPPLEMENTARY INFORMATION: The staff issues COL-ISGs to facilitate timely implementation of current staff guidance and to facilitate activities associated with review of applications for COL-ISGs by the staff. This ISG supplements the guidance contained in Regulatory Guide (RG) 1.206, Revision 0, “Combined License Applications for Nuclear Power Plants (LWR Edition).” In addition, this ISG supplements the guidance provided for staff review of COL applications contained in NUREG-0800, Standard Review Plan (SRP) Chapter 1.0, Revision 2, dated December 2011. The staff intends to incorporate this final COL-ISG-022 into the next revision of RG 1.206 and NUREG-0800, SRP Chapter 1.0. On February 14, 2011, the staff issued the proposed COL-ISG-022 “Impacts of Construction of New Nuclear Power Plants on Operating Units at Multi-Unit Sites,” ADAMS Accession No. ML093440252 (76 FR 8383). The staff received questions and editorial comments from four commenters which were considered in the development of the final ISG-022. The questions, comments, and staff resolutions of those comments are contained in “ISG-022 Comment Resolution” which can be found in ADAMS as Accession No. ML112630040. The NRC posts its issued staff guidance on the NRC's public Web page: (http://www.nrc.gov/reading-rm/doc-collections/isg/).

Backfitting

This ISG does not constitute backfitting as defined in 10 CFR 50.109, nor is it inconsistent with any of the issue finality provisions in 10 CFR part 52. This ISG does not contain any new requirements for COL applicants or holders under Part 52, or for licensees of existing operating units licensed under Part 50. Rather, it contains additional guidance and clarification on compliance with 10 CFR 52.79(a)(31), which may be used by COL applicants in the preparation of their applications.

Congressional Review Act

This interim staff guidance is a rule as designated in the Congressional Review Act (5 U.S.C. 801-808). However, OMB has not found it to be a major rule as designated in the Congressional Review Act.

SUPPLEMENTARY INFORMATION: The agency posts its issued staff guidance in the agency external Web page (http://www.nrc.gov/reading-rm/doc-collections/isg/).

For the Nuclear Regulatory Commission.
Dated at Rockville, Maryland, this 11th day of May 2012.
Amy E. Cubbage,
Chief, Policy Branch, Division of Advanced Reactors and Rulemaking, Office of New Reactors.

[FR Doc. 2012-12130 Filed 5-17-12; 8:45 am]

BILLING CODE 7590-01-P